LEGAL SERVICES CORPORATION

Sunshine Act Meeting of the Board of Directors Search Committee for LSC President & Inspector General

Time and Date: The Search Committee for LSC President and Inspector General of the Legal Services Corporation Board of Directors will meet May 1, 2004. The meeting will commence immediately following conclusion of the Operations and Regulations Committee meeting, which is anticipated to conclude at approximately 11:45 a.m.

Location: Moot Court Room, University of Maryland School of Law, 500 West Baltimore Street, Baltimore, Maryland 21201.

Special Notice: Please note that meetings of the Board of Directors will be held at a different location on Friday, April 30, 2004.

Status of Meeting: Open.

Matters To Be Considered:

Open Session

1. Approval of agenda.

2. Approval of the minutes of the Committee's meeting of January 30, 2004.

3. Status report on efforts to retain a recruitment firm to conduct the search.

4. Consider and act on qualifications for the position of LSC Inspector General.

5. Consider and act on the process for the selection of an LSC Inspector General.

6. Consider and act on future activities for the Committee.

7. Public comment.

8. Consider and act on other business.

9. Consider and act on adjournment of meeting.

FOR FURTHER INFORMATION CONTACT: Patricia D. Batie, Manager of Board Operations, at (202) 295-1500.

Special Needs: Upon request, meeting notices will be made available in alternate formats to accommodate visual and hearing impairments. Individuals who have a disability and need an accommodation to attend the meeting may notify Patricia D. Batie, at (202) 295-1500.

Dated: April 20, 2004.
Victor M. Fortuno,
Vice President for Legal Affairs, General Counsel & Corporate Secretary.

[FR Doc. 04-9429 Filed 4-21-04; 1:08 pm]

BILLING CODE 7050-01-P